DEPARTMENT OF ENERGY

Federal Energy Regulatory Commission

Notice of Pre-Recorded Workshop: “Fundamentals of Intervention in FERC Matters”; Office of Public Participation Fundamentals for Participating in FERC Matters

Office of Public Participation (OPP) staff will release an educational video on October 25, 2023, in the above-referenced proceedings. The video, titled “FERC Intervention: Powering Up Your Participation” will explain how and why a member of the public may choose to intervene in a Federal Energy Regulatory Commission (FERC) proceeding. Staff will address common questions about filing an intervention at FERC.

The conversation will cover intervening in energy infrastructure projects (natural gas pipelines, liquefied natural gas (LNG) terminals, or hydroelectric dams) proceedings, and in electric rates proceedings. OPP directly helps constituents to navigate FERC proceedings by explaining what an intervention is and how to intervene in the correct docket. Intervention is the procedural pathway to becoming a party in a proceeding at FERC.

Further questions which will be addressed include: What does it mean to file an intervention in a docket? Is that the same as filing a comment? Does that make me a party to a case, and what does becoming a party to a case mean? Is a lawyer required? Are there examples or templates? What should I know before deciding to intervene?

OPP wants to hear from you. What questions do you have? What has been your experience intervening, commenting, or otherwise navigating a FERC proceeding?

The video will be posted on FERC's YouTube channel on Office of Public Participation's playlist. It will include captioning in English and Spanish and will be compliant with section 508 of the Rehabilitation Act of 1973. For accessibility accommodations, please send an email to accessibility@ferc.gov or call toll free 1-866-208-3372 (voice) or 202-502-8659 (TTY) or send a FAX to 202-208-2106 with the required accommodations.

Please file your questions or comments in the docket on or before Wednesday September 20, 2023. If you need help with filing or have any other questions, feel free to reach out to Matthew Rolnick of the Commission's Office of Public Participation at Matthew.Rolnick@ferc.gov or OPP@ferc.gov.

Dated: August 25, 2023.
Kimberly D. Bose,
Secretary.

[FR Doc. 2023-18863 Filed 8-30-23; 8:45 am]

BILLING CODE 6717-01-P